DEPARTMENT OF HEALTH AND HUMAN SERVICES

Food and Drug Administration

[Docket Nos. FDA-2019-N-3065; FDA-2016-N-4620; FDA-2019-N-6063; FDA-2017-N-1066; FDA-2018-N-3065; FDA-2008-N-0424; and FDA-2019-N-5711]

Agency Information Collection Activities; Announcement of Office of Management and Budget Approvals

AGENCY: Food and Drug Administration, HHS.

ACTION: Notice.

SUMMARY: The Food and Drug Administration (FDA) is publishing a list of information collections that have been approved by the Office of Management and Budget (OMB) under the Paperwork Reduction Act of 1995.

FOR FURTHER INFORMATION CONTACT: Ila S. Mizrachi, Office of Operations, Food and Drug Administration, Three White Flint North, 10A-12M, 11601 Landsdown St., North Bethesda, MD 20852, 301-796-7726, PRAStaff@fda.hhs.gov.

SUPPLEMENTARY INFORMATION: The following is a list of FDA information collections recently approved by OMB under section 3507 of the Paperwork Reduction Act of 1995 (44 U.S.C. 3507). The OMB control number and expiration date of OMB approval for each information collection are shown in table 1. Copies of the supporting statements for the information collections are available on the internet at https://www.reginfo.gov/public/do/PRAMain. An Agency may not conduct or sponsor, and a person is not required to respond to, a collection of information unless it displays a currently valid OMB control number.

Table 1—List of Information Collections Approved by OMB
Title of collection | OMB control No. | Date approval expires
Required Warnings for Cigarette Packages and Advertisements | 0910-0877 | 04/30/2023
Medical Devices; Reports of Corrections and Removals | 0910-0359 | 10/31/2023
Customer/Partner Service Surveys | 0910-0360 | 10/31/2023
Annual Reporting for Custom Device Exemption | 0910-0767 | 10/31/2023
Human Drug Compounding Under Sections 503A and 503B of the Federal Food, Drug, and Cosmetic Act | 0910-0800 | 10/31/2023
Postmarketing Safety Reporting for Combination Products | 0910-0834 | 10/31/2023
Importation of Prescription Drugs | 0910-0888 | 10/31/2023

Dated: November 5, 2020.
Lauren K. Roth,
Acting Principal Associate Commissioner for Policy.

[FR Doc. 2020-25019 Filed 11-10-20; 8:45 am]

BILLING CODE 4164-01-P